DEPARTMENT OF DEFENSE

Department of the Army, Corps of Engineers

Supplemental Notice of Intent To Prepare a Draft Environmental Impact Statement (DEIS) for the Proposed Mid-Barataria Sediment Diversion, in Plaquemines Parish, Louisiana

AGENCY: Department of the Army, U.S. Army Corps of Engineers, DoD.

ACTION: Notice of intent.

SUMMARY: The Coastal Protection and Restoration Authority of Louisiana (CPRA) has requested approval from the U.S. Army Corps of Engineers, New Orleans District (USACE-MVN) to construct, maintain, and operate a sediment diversion structure off the right descending bank of the Mississippi River, at approximately 60.7 miles above “Head of Passes” in Plaquemines Parish, Louisiana. The proposed project, referred to as the Mid-Barataria Sediment Diversion (MBSD), would be designed to deliver sediment, freshwater, and nutrients from the Mississippi River into Barataria Basin. USACE-MVN intends to serve as the lead federal agency in preparing an Environmental Impact Statement (EIS) in accordance with the National Environmental Policy Act (NEPA). At this time, Cooperating Agencies on the EIS includes the: Environmental Protection Agency (EPA), Department of the Interior (DOI), National Oceanic and Atmospheric Administration (NOAA), National Marine Fisheries Service (NMFS), U.S. Fish and Wildlife Service (USFWS), and U.S. Department of Agriculture (USDA). The EIS for CPRA's proposed MBSD project will inform a permit decision for a Department of Army (DA) permit pursuant to Section 404 of the Clean Water Act (Section 404) and Section 10 of the Rivers and Harbors Act of 1899 (Section 10), and permissions under Section 14 of the Rivers and Harbors Act of 1899 (Section 408). In addition to informing USACE-MVN's decisions, the EIS will inform decisions made by the Deepwater Horizon Natural Resource Damage Assessment Louisiana Trustee Implementation Group (NRDA LA TIG) regarding restoration evaluation and related funding decisions relevant to the Deepwater Horizon natural resource damage settlement, any decision by the National Oceanic and Atmospheric Administration's National Marine Fisheries Service (NOAA NMFS) that may be required under the Marine Mammal Protection Act (MMPA), and any additional regulatory or permit processes that may be required for the MBSD Project, to the extent practicable. USACE-MVN filed an original Notice of Intent (NOI) to prepare a DEIS for the MBSD project which was published in the Federal Register on October 4, 2013 (78 FR 61843). This Supplemental NOI serves to supplement the original NOI to update the MBSD project details, contact information for the proposed MBSD project, scoping provisions, and other pertinent information.

FOR FURTHER INFORMATION CONTACT: Questions concerning the DA permit process should be directed to Mr. Brad LaBorde at U.S. Army Corps of Engineers, New Orleans District, Attn: CEMVN-OD-SE, 7400 Leake Avenue, New Orleans, LA 70118, by phone (504) 862-2225, or by email at CEMVN-Midbarataria@usace.army.mil. Questions and comments concerning the Section 408 permissions should be directed to Mr. Brad Inman at U.S. Army Corps of Engineers, New Orleans District, Attn: CEMVN-PM-P, 7400 Leake Avenue, New Orleans, LA 70118, by phone (504) 862-2124, or by email at CEMVN-Midbarataria@usace.army.mil.

SUPPLEMENTARY INFORMATION: 1. Proposed Action. CPRA describes the MBSD project as a large scale, complex ecosystem restoration project. When operated, a maximum nominal design flow of 75,000 cubic feet per second of sediment-laden water would be diverted from the Mississippi River into the Barataria Basin to reconnect and re-establish the natural or deltaic sediment deposition process between the Mississippi River and the Barataria Basin by delivering sediment, freshwater, and nutrients to reduce land loss and maintain and sustain wetlands. The sediment diversion would be approximately 1 to 2 miles long and primary features would include a gated diversion structure, a conveyance channel, and a potential back structure (for flood protection). The secondary features of the diversion would include a pump station or other mean of forced drainage, bridge or culvert crossing at Louisiana Highway 23, concrete side walls, earthen guide levees, scour protection and erosion control, and culverted road crossings. Under Section 10 and Section 404, the District Engineer will render a permit decision for the discharge of dredged and/or fill material into the waters of the U.S., as well as work, to include the installation and maintenance of structures, in navigable waters of the U.S., based on the public interest review and Section 404(b)(1) Clean Water Act guidelines. Under 33 U.S.C. 408, the Chief of Engineers reviews the potential impacts associated with proposals, operation or construction of which use, alter or modify existing USACE-MVN projects based on whether the project would be injurious to the public interest and the potential for the proposed project to impair existing or future Civil Works projects. If constructed as proposed, the MBSD footprint would directly impact 52.3 acres of jurisdictional wetlands and 4.5 acres of waters of the U.S. The MBSD project footprint would also impact and require the potential relocation of numerous public utilities and facilities. In addition, the MBSD project would directly and/or indirectly impact multiple USACE-MVN projects, including but not limited to, projects within the Mississippi River & Tributaries Program; the Mississippi River (federal navigation) Ship Channel, the Gulf to Baton Rouge, Louisiana project; and the future New Orleans to Venice (NOV) Hurricane Protection Levee project.

2. Alternatives. The EIS will address an array of alternatives based on the project purpose and need. USACE must identify the “overall” project purpose, evaluate practicable alternatives, and determine whether the project is water dependent. Some alternatives will be considered from, but not limited to, existing studies including the Coastal Wetlands Planning, Protection, and Restoration Act (CWPPRA) Program, Louisiana Coastal Area (LCA) Ecosystem Restoration Study, LCA Medium Diversion at Myrtle Grove with Dedicated Dredging Feasibility Study, the State and non-governmental organizations (NGOs) Myrtle Grove Delta Building Diversion Modeling Effort in Support of LCA Medium Diversion at Myrtle Grove with Dedicated Dredging, the 2012 Louisiana Coastal Master Plan (LCMP), and the 2017 LCMP. The LA TIG may develop alternatives based on considerations under the Oil Pollution Act (OPA) NRDA restoration planning process and associated decision-making. Alternatives for purposes of any additional regulatory or permitting processes also would be developed and evaluated to the extent practical. Other alternatives may be developed through the NEPA scoping process.

3. Scoping. Scoping is the NEPA process utilized for seeking public involvement in determining the range of alternatives and significant issues to be addressed in the EIS USACE-MVN invites full public participation to promote open communication on the issues surrounding the proposed action. The public will be involved in the scoping and evaluation process through advertisements, notices, and other means. Project information will also be available on USACE-MVN's Web site at: http://www.mvn.usace.army.mil/Missions/Regulatory/Permits/Mid-Barataria-Sediment-Diversion-EIS/. All individuals, organizations, NGOs, affected Indian tribes, and local, state, and Federal agencies that have an interest are urged to participate in the scoping process. Public scoping meeting(s) will be held to present information to the public and to receive comments from the public. The date, time, and location of the scoping meeting(s) will be announced once determined on the USACE-MVN public notice Web page (http://www.mvn.usace.army.mil/Missions/Regulatory/Public-Notices/) and in any other forms deemed appropriate. Comments will also be accepted via email or postal mail; USACE-MVN will provide information to the public as to where, when, and how to submit comments. Scoping meetings may happen in coordination with NOAA and the NRDA LA TIG in order to present to the public, solicit comments and inform other required authorizations and collaborative restoration evaluation involving the proposed project.

4. Potentially Significant Issues. The EIS will analyze the potential impacts on the human and natural environment resulting from the project. The scoping, public involvement, and interagency coordination processes will help identify and define the range of potential significant issues that will be considered. Important resources and issues evaluated in the EIS could include, but are not limited to, the direct, indirect, and cumulative effects on tidal wetlands and other waters of the U.S.; aquatic resources; commercial and recreational fisheries; wildlife resources; essential fish habitat; water quality; cultural resources; geology and soils including agricultural land and prime and unique farmland; hydrology and hydraulics; air quality; marine mammals; threatened and endangered species and their critical habitat; net impacts on ecosystem services; navigation and navigable waters; induced flooding; employment; land use; property values; tax revenues; population and housing; community and regional growth; environmental justice; community cohesion; public services; recreation; transportation and traffic; utilities and community service systems; and cumulative effects of related projects in the study area. USACE-MVN will also consider issues identified and comments made throughout scoping, public involvement, and interagency coordination. USACE-MVN expects to better define the issues of concern and the methods that will be used to evaluate those issues through the scoping process.

5. Environmental Consultation and Review. USACE-MVN anticipates developing an EIS that meets NEPA requirements of several federal agencies evaluating whether to authorize and/or fund the proposed project. At this time the cooperating agencies includes: EPA, DOI, NOAA, NMFS, USFWS, and USDA. Other federal interests in the development of the EIS include those related to NMFS's obligations under the MMPA and the NRDA LA TIG Federal trustees' obligations under OPA NRDA regulations, Final Programmatic Damage Assessment and Restoration Plan and Final Programmatic Environmental Impact Statement, and the Consent Decree entered into in In re: Oil Spill by the Oil Rig “Deepwater Horizon” In the Gulf of Mexico. In addition to the federal interests noted above for general development of the EIS, USFWS will assist in documenting existing conditions and assessing effects of project alternatives through the Fish and Wildlife Coordination Act consultation procedures. Consultation will be accomplished with USFWS and NMFS concerning threatened and endangered species and their critical habitat per the Endangered Species Act. NMFS will be consulted regarding the effects of this proposed action on Essential Fish Habitat per the Magnuson-Stevens Fisheries Conservation and Management Act. USACE-MVN anticipates CPRA will submit an application for an incidental take authorization to NMFS in accordance with the MMPA.

Questions regarding consultation or compliance requirements described herein, will be directed to the appropriate jurisdictional agency.

6. The USACE-MVN will consult with the Louisiana State Historic Preservation Officer (SHPO) and the appropriate Tribal Historic Preservation Officers (THPO), per the National Historic Preservation Act.

7. Availability. The DEIS is presently scheduled to be available for public review and comment by April 30, 2020. All comments received throughout the review process will become part of the administrative record for the proposed MBSD project and subject to public release.

8. NRDA LA TIG NOI: The Deepwater Horizon NRDA LA TIG has published a Notice of Initiation of Restoration Planning that seeks to facilitate public involvement and streamline future processes by specifically seeking public comment on a controlled river diversion in Barataria Basin, such as the MBSD, in a future Restoration Plan under OPA. To facilitate the potential consideration of the MBSD under OPA, it is the intent of the NRDA LA TIG Trustees to assist the USACE in the preparation of the EIS for the Mid-Barataria Sediment Diversion.

Brenda S. Bowen,
Army Federal Register Liaison Officer.

[FR Doc. 2017-08413 Filed 4-26-17; 8:45 am]

BILLING CODE 3720-58-P